DEPARTMENT OF COMMERCE

Census Bureau

Agency Information Collection Activities; Submission to the Office of Management and Budget (OMB) for Review and Approval; Comment Request; Boundary and Annexation Survey

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the Boundary and Annexation Survey, prior to the submission of the information collection request (ICR) to OMB for approval.

DATES: To ensure consideration, comments regarding this proposed information collection must be received on or before July 5, 2024.

ADDRESSES: Interested persons are invited to submit written comments by email to dcmd.pra@census.gov. Please reference “Boundary and Annexation Survey” in the subject line of your comments. You may also submit comments, identified by Docket Number USBC-2024-0012, to the Federal e-Rulemaking Portal: https://www.regulations.gov. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael S. Snow, Program Manager, Decennial Census Management Division, by phone at 301-763-9912 or by email to dcmd.pra@census.gov.

SUPPLEMENTARY INFORMATION:

I. Abstract

The U.S. Census Bureau conducts many voluntary geographic partnership programs designed to collect addresses, boundaries, and linear features for incorporation into the Master Address File/Topologically Integrated Geographic Encoding and Referencing (MAF/TIGER) System. The Boundary and Annexation Survey (BAS) is one of these programs. It provides eligible governments, which include tribal, state, and general-purpose local governments, an opportunity to review the Census Bureau's legal boundary data to ensure the Census Bureau has the correct boundary, name, and status information and make necessary updates. BAS also allows for the review and update of census designated place (CDP) boundaries and linear features. It fulfills the agency's responsibility as part of the National Spatial Data Infrastructure, for which the Office of Management and Budget (OMB) Circular A-16 designates the Census Bureau as the lead federal agency for maintaining national data about legal government boundaries, as well as statistical and administrative boundaries. It also supports the geospatial data steward responsibilities of the Geospatial Data Act, the Evidence Act, OMB E-Gov, the Federal Geographic Data Committee, Data.gov, GeoPlatform.gov, the National Map, the Geographic Names Information System, and the Geospatial One-Stop.

The Census Bureau uses the boundaries collected during BAS to tabulate data for various censuses and surveys including the decennial census, American Community Survey (ACS), and Population Estimates Program (PEP). It also uses the boundaries collected through BAS to support other programs such as the Redistricting Data Program, the Economic Census, the Geographic Update Population Certification Program, and the Special Census program.

Other federal programs also rely on accurate boundaries collected through BAS. The Department of Housing and Urban Development uses boundaries to determine jurisdictional eligibility for various grant programs, such as the Community Development Block Grant program. In addition, the Department of Agriculture uses boundaries to determine eligibility for various rural housing and economic development programs.

The BAS participation process, outlined below, is like the Census Bureau's other geographic partnership programs though there are some differences in the universe of eligible governments, requirements, and timeframe of the program.

• The Census Bureau notifies eligible governments about BAS through email. Eligible governments are instructed to review the legal boundary, name, and status information, along with CDP boundaries, linear features, and the highest elected official and program contact information the Census Bureau has on file. They can review their boundaries and linear features using the Census Bureau's TIGERweb application, partnership shapefiles, or PDF maps.

• Eligible governments respond through an online response form or email to indicate if they have legal boundary, CDP, linear feature, or contact updates. Those with updates can choose to create their submission using the BAS Partnership Toolbox, Geographic Update Partnership Software (GUPS), GUPS Web, or paper maps.

• Eligible governments return updates to the Census Bureau. Updates created using the BAS Partnership Toolbox, GUPS, or GUPS Web are returned through the Census Bureau's secure online data sharing portal while paper map updates are returned through the mail.

• The Census Bureau processes and verifies all updates for accuracy and completeness. The updates are inserted into the MAF/TIGER System and quality control is performed.

Legal Information

The Census Bureau reviews and maintains an inventory of each state's legal boundary laws and statutes. This information is made available to eligible governments on the BAS website. The Census Bureau also uses this information to verify that updates provided during BAS are made in accordance with state law.

If it comes to the Census Bureau's attention that an area of non-tribal land is in dispute between two or more governments, the Census Bureau will not make boundary updates until all affected parties come to a written agreement, or there is a documented final court decision regarding the matter and/or dispute. If there is a dispute over an area of tribal land, the Census Bureau will not make boundary updates until the governments provide supporting documents or the U.S. Department of the Interior issues a comment. If necessary, the Census Bureau will request clarification regarding current boundaries or supporting documentation, from the U.S. Department of the Interior, Office of the Solicitor.

BAS Universe

The BAS universe includes approximately 40,000 eligible governments. These include:

• Federally recognized tribes with a reservation or off-reservation trust land (including tribal subdivisions).

• States.

• Counties and county equivalent governments.

• Incorporated places (including consolidated cities).

• Minor civil divisions.

• Hawaiian Home Lands.

• Municipios, barrios, barrio-pueblos, and subbarrios in the Commonwealth of Puerto Rico.

• The U.S. territories of American Samoa, Guam, the Commonwealth of the Northern Mariana Islands, and the U.S. Virgin Islands.

II. Method of Collection

The following collection methods allow the Census Bureau to coordinate among various levels of governments to obtain the most accurate boundary, CDP, linear feature, and contact information:

• BAS.

• State Certification.

• Boundary Quality Project.

BAS

BAS provides eligible governments, which include tribal, state, and general-purpose local governments, an opportunity to review the Census Bureau's legal boundary data to ensure the Census Bureau has the correct boundary, name, and status information and make necessary updates. BAS also allows for the review and update of CDPs and linear features.

The Census Bureau notifies eligible governments about BAS through email. The email includes program information and directs eligible governments to respond through an online form if they have legal boundary, CDP, linear feature, or contact updates to report. Any eligible government without an email on file with the Census Bureau will be contacted by phone and asked to provide their response.

Those indicating they have updates to provide must create their submission using one of the options listed below.

• BAS Partnership Toolbox. The BAS Partnership Toolbox allows eligible governments to create the submission in ArcGIS Pro. The toolbox automates data download, boundary update creation, and exports standardized files for submission.

• GUPS. GUPS is a free, customized geographic information system software application provided by the Census Bureau. It is offered as standalone (GUPS Download) and online (GUPS Web) applications.

○ GUPS Download allows eligible governments to manually create boundary updates and export standardized files for submission.

○ GUPS Web allows eligible governments to manually create boundary updates or import local boundary data to automate the creation of boundary updates and export standardized files for submission.

• Paper maps. The Census Bureau will ship large format paper maps and instructions for eligible governments to annotate and return their updates to the Census Bureau. The paper map package includes a letter, materials list insert, large format paper maps covering the extent of the government, supplies to update the paper maps, how-to guide, and postage-paid return envelope.

Eligible governments that do have boundary updates can submit both legal boundary changes and boundary corrections. Legal boundary changes include updates that are a result of any legal action taken by the eligible government(s) to add or remove land to their official boundary. Boundary corrections are updates that are the result of spatial inaccuracies and do not substantially alter the Census Bureau's representation of the boundaries.

Updates created using the BAS Partnership Toolbox, GUPS, or GUPS Web are returned through the Census Bureau's secure online data sharing portal, while paper map are returned through the mail.

Eligible governments that do not respond, or those that indicate they have updates to provide, but have not submitted their updates are contacted during nonresponse follow-up by email. The email reminds eligible governments to respond through an online response form or email if they have updates to report. Those that indicated they have updates to report are requested to submit those updates by the March 1 or May 31 deadlines.

Refer to the schedule below for a high-level BAS program timeline.

• January 1—Legal boundary changes must be legally in effect on or before this date to be reported in the current survey year.

• January to May—The Census Bureau conducts BAS. Eligible governments respond to BAS indicating if they have legal boundary, CDP, linear feature, or contact updates to report. Those with updates can choose to create their submission using the Census Bureau's BAS Partnership Toolbox, GUPS, GUPS Web, or paper maps.

• Early January—The Census Bureau notifies eligible governments about BAS through email. Eligible governments are contacted through email to determine if they have legal boundary, CDP, linear feature, or contact updates to report. Any eligible government without an email on file with the Census Bureau will be contacted by phone and asked to provide their response.

• Mid-February, Mid-March, and Mid-April—The Census Bureau conducts nonresponse follow-up for BAS through email. Eligible governments that have not responded to annual response, along with those that indicated they have updates to report but have not yet submitted those updates, are contacted through email on up to three occasions.

• March 1—Legal boundary changes returned by this date will be reflected in the ACS and PEP data and in next year's BAS materials.

• May 31—Legal boundary changes returned by this date will be reflected in next year's BAS materials. If time permits, boundary corrections returned by this date may also be reflected in next year's BAS materials.

The Census Bureau maintains state and county (CBAS) agreements that coordinate the sharing of information and resources between the federal government and state or county governments in collecting boundary information for general-purpose local governments. These agreements aim to reduce the duplication of effort across various levels of governments as well as the cost and time burden associated with BAS participation.

To facilitate a state agreement, the Census Bureau enters a Memorandum of Understanding with the state. States interested in establishing an agreement can do so when there is state legislation requiring general-purpose local governments to report all boundary updates to a state agency. The Census Bureau currently maintains two types of state agreements. In the first type of agreement, the state reports boundary updates for all eligible governments within its jurisdiction. Eligible governments in this type of agreement are notified about BAS; however, they do not receive the request to provide updates and are instructed to report all boundary updates to the state. Under the second type of agreement, the state provides the Census Bureau with a list of eligible governments that reported boundary changes. The Census Bureau uses the list to target those general-purpose local governments during BAS.

CBAS agreements allow county or county-equivalent governments to submit updates for the eligible general-purpose local governments within their jurisdiction. Once under an agreement, eligible governments are notified about BAS; however, they do not receive the request to provide updates and are instructed to report all boundary updates to the county or county-equivalent government.

State Certification

The state certification program allows state agencies to verify that the legal boundary, name, and status information received through BAS were reported in accordance with state law. The Census Bureau annually requests that each state governor designate a state certifying official (SCO) to participate in the program. The SCO reviews listings of legal boundary changes, as well as government names and statuses that were submitted through the previous year's BAS. These listings include the attribute information for new incorporations, dissolutions, mergers, consolidations, and legal boundary changes. The listings also include the names and functional statuses of all general-purpose local governments within the state's jurisdiction. The SCO can request that the Census Bureau edit the attribute data, add missing records, or remove invalid records. Invalid records are only removed if the state government maintains an official record of all changes to legal boundaries and governments as mandated by state law. The state certification schedule is as follows:

• October—The Census Bureau emails governor's letters requesting the state appoint an SCO to participate in the program.

• December—The Census Bureau emails the information required to participate to the SCO.

• December to February—The SCO returns submission to the Census Bureau.

• March—The Census Bureau distributes discrepancy emails to general-purpose local governments based on feedback from the SCO.

The state certification materials include a governor's letter, an email to the SCO, how-to guide, legal boundary change and government name and status listings, and discrepancy email to local governments. The listings and how-to guide are available on the BAS website. The SCO returns all updates electronically through the Census Bureau's secure online data sharing portal.

Boundary Quality Project

The boundary quality project is designed to assess, analyze, and improve the spatial quality of legal, statistical, and administrative boundaries within the MAF/TIGER System. Ensuring quality boundaries is a critical component of the geographic preparations for each decennial census and the Census Bureau's ongoing geographic partnership programs. In addition, the improvement of boundary quality is an essential element of the Census Bureau's commitment as the responsible agency for legal boundaries under OMB Circular A-16.

The project represents an effort to systematically target and assess boundary quality within the MAF/TIGER System. Historically, the Census Bureau relied exclusively on geographic partnership programs such as BAS and the Participant Statistical Areas Program (PSAP) to obtain updates to tribal, state, general-purpose local government, and CDP boundaries. While programs like BAS play an essential role in improving boundary quality, the goal of the boundary quality project is to establish a new, more accurate, baseline for legal boundaries and CDPs within an entire state or county. BAS builds on this baseline by collecting individual legal boundary changes and optionally associated addresses, and CDP updates on a transaction basis as they occur over the years.

Feedback

The Census Bureau is adding a feedback component to its geographic partnership programs to allow for the solicitation of feedback to improve the administration of the respective program and potentially reduce the future burden. Eligible governments may be asked to provide their feedback on materials, method(s) of data collection, manner of communications, and the usability of the program applications and tools.

III. Data

OMB Control Number: 0607-0151.

Form Number(s): BAS-6. This is the CBAS agreement form.

Type of Review: Regular submission, request for a revision of a currently approved collection.

Affected Public: Tribal, state, and general-purpose local governments in all fifty states, the District of Columbia, the Commonwealth of Puerto Rico, American Samoa, Guam, the Commonwealth of the Northern Mariana Islands, and the U.S. Virgin Islands.

Estimated Number of Respondents:

• BAS/State Certification/Boundary Quality Project: 40,000 governments.

• Feedback: 1,000 governments.

Estimated Time per Response:

• BAS/State Certification/Boundary Quality Project: 7.5 hours. This estimate is based on an average of 5 hours for an eligible government with no change and 10 hours for an eligible government with changes.

• Feedback: 30 minutes.

Estimated Total Annual Burden Hours: 300,500 hours.

• BAS/State Certification/Boundary Quality Project: 300,000 hours.

• Feedback: 500 hours.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C., section 6.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-09793 Filed 5-3-24; 8:45 am]

BILLING CODE 3510-07-P